NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 18, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Agricultural Marketing Service (N1-136-05-1, 6 items, 6 temporary items). Inputs, master files, documentation, and electronic mail and word processing copies associated with an electronic information system used to collect and monitor trading practices in the marketing of fresh and frozen fruits and vegetables in interstate and foreign commerce in accordance with the Perishable Agricultural Commodities Act. This schedule authorizes the agency to apply the proposed disposition instructions to any recordkeeping medium.

2. Department of Agriculture, Agricultural Marketing Service (N1-136-05-3, 4 items, 4 temporary items). Inputs, outputs, master files, and documentation associated with an electronic information system used to maintain and track fruit and vegetable inspection and certification data. This schedule authorizes the agency to apply the proposed disposition instructions to any recordkeeping medium.

3. Department of Agriculture, Agricultural Marketing Service (N1-136-05-8, 5 items, 5 temporary items). Inputs, outputs, master files, and documentation associated with an electronic information system used by the National Science Laboratory to evaluate, retain, and report analytical test data for agricultural commodities. This schedule authorizes the agency to apply the proposed disposition instructions to any recordkeeping medium.

4. Department of Agriculture, Agricultural Marketing Service (N1-136-06-8, 6 items, 6 temporary items). Inputs, outputs, master files, documentation, and electronic mail and word processing copies associated with an electronic information system used to collect price information on agricultural commodities in specific markets and marketing areas. This schedule authorizes the agency to apply the proposed disposition instructions to any recordkeeping medium.

5. Department of the Army, Agency-wide (N1-AU-06-5, 3 items, 3 temporary items). Records relating to the Army Oil Analysis Program and Product Quality Deficiency Program. Included are such records as oil analysis requests and feedback reports, and deficient product descriptions, findings, and recommendations. Also included are electronic copies of records created using electronic mail and word processing. This schedule authorizes the agency to apply the proposed disposition instructions to any recordkeeping medium.

6. Department of the Army, Agency-wide (N1-AU-06-7, 2 items, 2 temporary items). Records relating to waivers for applicants not meeting enlistment standards for the Regular Army and the Army Reserves, including requests, recommendations, and various forms used to collect background information. Also included are electronic copies of records created using electronic mail and word processing. This schedule authorizes the agency to apply the proposed disposition instructions to any recordkeeping medium.

7. Department of Commerce, National Oceanic and Atmospheric Administration (N1-370-06-3, 5 items, 5 temporary items). Records of the National Marine Fisheries Service, including eligible and ineligible applicant files for dedicated access permits under the individual fishing quota program, and registered buyer/receiver permits. Also included are electronic copies of records created using electronic mail and word processing.

8. Department of Housing and Urban Development, Office of Faith-Based and Community Initiatives (N1-207-06-1, 9 items, 2 temporary items). Working papers, and spreadsheet data used for reporting the number of faith-based organizations receiving agency funding. Proposed for permanent retention are recordkeeping copies of program publications, program planning and project files, correspondence, regulatory and policy affairs files, and documents relating to program liaison activities with agency staff and interaction with the White House Office of Faith-Based and Community Initiatives.

9. Department of Interior, Office of the Secretary (N1-48-06-3, 6 items, 3 temporary items). Files maintained by Deputy Assistant Secretaries and records lacking historical value held by other senior agency officials. Also included are electronic copies of records created using electronic mail and word processing. Proposed for permanent retention are recordkeeping copies of files maintained by the Secretary and the Secretary's Counselors, Deputy Secretary, Assistant Secretaries, Solicitor, and Inspector General.

10. Department of Justice, Justice Management Division (N1-60-06-1, 3 items, 2 temporary items). Electronic copies of records created using electronic mail and word processing relating to agency whistleblower cases and the Office of Attorney Recruitment and Management's handling of those cases. Proposed for permanent retention are recordkeeping copies of whistleblower protection case files.

11. Department of Justice, Federal Bureau of Investigation (N1-65-06-10, 1 item, 1 temporary item). Consent forms for contractor personnel agreeing to warrantless physical searches of their offices or workplaces within agency facilities.

12. Department of the Treasury, Internal Revenue Service (N1-58-06-10, 1 item, 1 temporary item). Records of the Office of Appeals relating to appraisal review requests for art and cultural property listed in tax returns. Records include copies of taxpayer case files consisting of forms, work papers, recommendations and final appraisal reports. This schedule reduces the retention period for recordkeeping copies of these files, which were previously approved for disposal.

Dated: July 31, 2006.
Michael J. Kurtz,
Assistant Archivist for Records Services—Washington, DC.

[FR Doc. E6-12598 Filed 8-3-06; 8:45 am]

BILLING CODE 7515-01-P